LIBRARY OF CONGRESS

Copyright Royalty Board

[Docket No. 23-CRB-0007 AA]

Determination of Adjustment to Administrative Assessment To Fund Mechanical Licensing Collective

AGENCY: Copyright Royalty Board, Library of Congress.

ACTION: Notice of commencement; request for petitions to participate; schedule.

SUMMARY: The Copyright Royalty Judges announce commencement of a proceeding to determine an adjustment to the administrative assessment that digital music providers and any significant nonblanket licensees must pay to fund the operations of the Mechanical Licensing Collective (MLC); set the date by which the MLC and the Digital Licensee Coordinator (DLC) must, and other eligible participants may, file a Petition to Participate and the accompanying $150 filing fee; and announce the schedule for the proceeding and deadlines for submissions.

DATES: The commencement date of the proceeding is June 30, 2023. Petitions to Participate and the filing fee are due on or before July 17, 2023. The schedule for submissions and additional proceedings is set forth in the SUPPLEMENTARY INFORMATION section below.

ADDRESSES: Participants must file petitions to participate using the online form available on the Copyright Royalty Board's electronic filing application, eCRB, at https://app.crb.gov/. Participants must also file submissions in eCRB. See 37 CFR 303.5.

Instructions: All submissions must include the Copyright Royalty Board name and docket number, 23-CRB-0007 AA. All submissions and Petitions to Participate received will be posted without change on eCRB including any personal information provided.

Docket: For access to the docket, go to eCRB, the Copyright Royalty Board's electronic filing and case management system, at https://app.crb.gov/, and search for docket number 23-CRB-0007 AA.

FOR FURTHER INFORMATION CONTACT: Anita Brown, CRB Program Specialist, (202) 707-7658, crb@loc.gov.

SUPPLEMENTARY INFORMATION: On May 31, 2023, the Mechanical Licensing Collective (MLC) and Digital Licensee Coordinator (DLC) filed with the Copyright Royalty Judges (Judges) a joint petition ¹ to commence a proceeding to adjust the administrative assessment to be paid by digital music providers to fund the operating budget of the MLC along with a Joint Motion to Adopt Voluntary Agreement and Proposed Regulations. Section 115 of the Copyright Act requires the Judges, upon receipt of such a petition, to commence a proceeding by publication in the month of June of a notice in the Federal Register seeking Petitions to Participate. In the notice, the Judges must announce the schedule for submissions and further proceedings. 17 U.S.C. 115(d)(7)(D)(iv)(II); 37 CFR 355.2(b).

¹ The most recent publication of a determination of the Administrative Assessment by the Judges was January 22, 2022 (86 FR 6568). Petitions to commence an adjustment proceeding may not be filed earlier than one year after that date and must be filed during the month of May, 37 CFR 355.2(b), and thus the joint petition was properly filed.

The Judges hereby announce commencement of the proceeding. Participation by the MLC and the DLC in the proceeding is required, and the participation of copyright owners, digital music providers, and significant nonblanket licensees in the proceeding is permitted. 17 U.S.C. 115(d)(7)(D)(iv)(II); 37 CFR 355.2(c)-(d). The Judges, therefore, direct the MLC and the DLC to file Petitions to Participate, request Petitions to Participate from any other eligible participant with a significant interest in the determination of the Administrative Assessment, and set a schedule for submissions and further proceedings.

Petitions To Participate

Parties filing Petitions to Participate must comply with the requirements of 37 CFR 355.2(e).

How To Submit Petitions To Participate

Petitioners must submit a filing fee of $150 to the Copyright Royalty Board with their Petition to Participate, or the Judges will reject the petition.

Parties must file Petitions to Participate online through eCRB using the online form, including therein factual information sufficient to establish that the petitioner has a significant interest in the determination of the Administrative Assessment, pursuant to 17 U.S.C. 115(d)(7)(D)(iv)(II) and 37 CFR 355.2(e), and pay the filing fee by credit card using the payment portal on eCRB.

Any participant that is an individual may represent herself or himself. All other participants must be represented by counsel. In accordance with § 303.2 of the Judges' regulations, only attorneys who are members of the bar in one or more states or the District of Columbia and in good standing will be allowed to represent parties before the Copyright Royalty Judges. 37 CFR 303.2.

Schedule for Submissions and Further Proceedings

The schedule for submissions and further proceedings is as follows: the commencement date of the proceeding is June 30, 2023; the first negotiation period is June 30-August 29, 2023; written notification from the MLC and DLC regarding results of negotiations is due August 29, 2023; the opening submission from the MLC, with concurrent production of required documents and disclosures, is due September 28, 2023; the first discovery period is September 29-November 28, 2023; responsive submissions from the DLC and from other participants, with concurrent production of required documents and disclosures, are due December 28, 2023; the second discovery period is December 29, 2023-February 27, 2024; the second negotiation period is February 28-March 13, 2024; reply submissions from the MLC are due April 10, 2024; written notification from the MLC and DLC regarding results of negotiations is due March 13, 2024; the joint pre-hearing submission is due on April 15, 2024; a hearing on the record will begin on April 29, 2024. See 17 U.S.C. 115(d)(7)(D)(iv)(II), 37 CFR 355.2-355.4.

The Judges will address further procedural matters after Petitions to Participate are filed. See 37 CFR 355.2(f)-(g); 355.3(a), (h).

Dated: June 26, 2023.
David P. Shaw,
Chief Copyright Royalty Judge.

[FR Doc. 2023-14023 Filed 6-28-23; 8:45 am]

BILLING CODE 1410-72-P